DEPARTMENT OF TRANSPORTATION

National Highway Traffic Safety Administration

[U.S. DOT Docket No. NHTSA-2012-0094]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before October 15, 2012.

ADDRESSES: You may submit comments identified by DOT Docket ID Number NHTSA-2012-0094 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Mr. Alan Block, Contracting Officer's Technical Representative, Office of Behavioral Safety Research (NTI-131), National Highway Traffic Safety Administration, 1200 New Jersey Avenue SE., W46-499, Washington, DC 20590. Mr. Block's phone number is 202-366-6401 and his email address is alan.block@dot.gov

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(I) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Survey of DWI Courts

Type of Request—New information collection requirement.

OMB Clearance Number—None.

Form Number—NHTSA 1175.

Requested Expiration Date of Approval—3 years from date of approval.

Summary of the Collection of Information—The National Highway Traffic Safety Administration (NHTSA) proposes to collect information from specialized (or problem solving) courts known as DWI Courts and Hybrid DWI/Drug Courts to obtain an inventory of their current operational practices. All known operating DWI Courts and Hybrid DWI/Drug Courts will be contacted by mail and/or email and asked to go to a designated Web site to fill out the questionnaire. The most recent figures (from the National Association of Drug Court Professionals (NADCP)) show 598 Courts operating in the United States that are either designated DWI Courts (192) or else Hybrid DWI/Drug Courts (406) as of December 2010. That number is projected to increase to approximately 650 Courts by the time the survey is ready to enter the field. The survey will ask about case flow, eligibility criteria, management information systems, program staffing, treatment, testing, courtroom practices, sanctions, and other relevant program characteristics. The average amount of time for respondents to complete the survey is estimated to be 40 minutes.

The survey will be conducted on-line, with the on-line technology serving to reduce length and minimize recording errors. No information will be collected that could be used to identify any clients participating in the court programs. The information provided will either describe program practices/characteristics, or provide information aggregated across all cases.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

DWI Courts are a relatively new intervention to combat alcohol-impaired driving and are authorized under MAP-21, the current DOT authorization. Borrowing from the Drug Court Model, they are directed at repeat offenders and offenders having high blood alcohol concentration levels (BACs) at time of arrest. These Courts attack the source of the problem by taking a comprehensive approach to changing behavior that includes treatment. There is a body of research that now exists to show that Drug Courts are effective. However, Drug Courts and DWI Courts may treat different populations, and questions about the effectiveness of DWI Courts and their services have yet to be adequately answered. NHTSA is presently designing a program to evaluate DWI Courts to directly answer key questions pertaining to their effectiveness. But in order to do that, the agency first needs detailed information on how the DWI Courts are operating.

NHTSA will use the findings from this proposed collection of information to guide the design of an evaluation program to answer key questions regarding the effectiveness of DWI Courts.

Description of the Likely Respondents (Including Estimated Number, and Proposed Frequency of Response to the Collection of Information)—The respondents will be people involved in the running of DWI Courts and Hybrid DWI/Drug Courts. These primarily will be Judges and Court Staff, but may include others involved in specific aspects of the DWI Court program such as treatment providers, law enforcement and probation/parole personnel. Contacted Courts will determine who is appropriate to complete the sections of the questionnaire, and may apportion different sections to different people to complete, if necessary. The projected total number of DWI Courts and Hybrid Courts at the commencement of the field period is 650. Total estimated time to complete the questionnaire is expected to average 40 minutes. All Courts will be administered the survey one time only.

Estimate of the Total Annual Reporting and Record Keeping Burden Resulting from the Collection of Information—NHTSA estimates that the Courts would require an average of 40 minutes to complete the survey or a total of 433.33 hours for the projected 650 DWI and Hybrid Courts. The survey would be fielded during a two month period in 2013. Thus the annual reporting burden would be the entire 433.33 hours. Reporting costs would entail salaried time for responding to the questionnaire. Mean hourly wages for legal occupations range from $21.56 for legal support workers to $53.34 for Judges, Magistrate Judges, and Magistrates. At 433.33 total responding hours for the survey, this would put the cost burden at a level between $9,343 and $23,114, depending on which Court personnel respond to the survey. The respondents would not incur any record keeping burden or record keeping cost from the information collection.

Authority: 44 U.S.C. Section 3506(c)(2)(A)

Issued on: August 9, 2012.
Jeffrey Michael,
Associate Administrator, Research and Program Development.

[FR Doc. 2012-19940 Filed 8-13-12; 8:45 am]

BILLING CODE 4910-59-P